ENVIRONMENTAL PROTECTION AGENCY

40 CFR Part 52

[EPA-R07-OAR-2015-0356; EPA-R07-OAR-2017-0268; EPA-R07-OAR-2017-0515; EPA-R07-OAR-2017-0513; FRL-9975-71-Region 7]

Approval of Implementation Plans; State of Missouri; Elements of the Infrastructure State Implementation Plan Requirements for the 2008 Ozone, 2010 Nitrogen Dioxide, 2010 Sulfur Dioxide, and 2012 Fine Particulate Matter National Ambient Air Quality Standards (NAAQS)

AGENCY: Environmental Protection Agency (EPA).

ACTION: Final rule.

SUMMARY: The Environmental Protection Agency (EPA) is taking final action to approve elements of a State Implementation Plan (SIP) submission from the State of Missouri for the 2008 Ozone, 2010 Nitrogen Dioxide (NO2), 2010 Sulfur Dioxide (SO2), and 2012 Fine Particulate Matter (PM2.5) National Ambient Air Quality Standards (NAAQS). States are required to have a SIP that provides for the implementation, maintenance, and enforcement of the NAAQS. Whenever EPA promulgates a new or revised NAAQS, states are required to make a SIP submission to establish that they have, or to add, the provisions necessary to address various requirements to address the new or revised NAAQS. These SIPs are commonly referred to as “infrastructure” SIPs. The infrastructure requirements are designed to ensure that the structural components of each state's air quality management program are adequate to meet the state's responsibilities under the CAA.

DATES: This final rule is effective on April 23, 2018.

ADDRESSES: EPA has established dockets for this action under Docket ID Nos. EPA-R07-OAR-2015-0356; EPA-R07-OAR-2017-0268; EPA-R07-OAR-2017-0515; EPA-R07-OAR-2017-0513. All documents in the dockets are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Tracey Casburn, Environmental Protection Agency, Air Planning and Development Branch, 11201 Renner Boulevard, Lenexa, Kansas 66219 at (913) 551-7016, or by email at casburn.tracey@epa.gov.

SUPPLEMENTARY INFORMATION: Throughout this document “we,” “us,” and “our” refer to EPA. This section provides additional information by addressing the following:

I. Background

a. 2008 Ozone NAAQS

b. 2010 NO2 NAAQS

c. 2010 SO2 NAAQS

d. 2012 PM2.5 NAAQS

II. What is being addressed in this document?

a. 2008 Ozone NAAQS

b. 2010 NO2 NAAQS

c. 2010 SO2 NAAQS

d. 2012 PM2.5 NAAQS

e. Section 110(a)(2)(E)(ii)/section 128

III. Have the requirements for approval of a SIP submission been met?

a. 2008 Ozone NAAQS

b. 2010 NO2 NAAQS

c. 2010 SO2 NAAQS

d. 2012 PM2.5 NAAQS and Section 110(a)(2)(E)(ii)/section 128

IV. EPA's Response to Comments

a. 2008 Ozone NAAQS

b. 2010 NO2 NAAQS

c. 2010 SO2 NAAQS

d. 2012 PM2.5 NAAQS and Section 110(a)(2)(E)(ii)/section 128

V. What action is EPA taking?

a. 2008 Ozone NAAQS

b. 2010 NO2 NAAQS

c. 2010 SO2 NAAQS

d. 2012 PM2.5 NAAQS

e. Section 110(a)(2)(E)(ii)/section 128

VI. Statutory and Executive Order Reviews

I. Background

a. 2008 Ozone NAAQS

On October 6, 2017, EPA proposed to approve certain elements of the 2008 Ozone NAAQS infrastructure SIP submission from the State of Missouri. See 82 FR 46741. In conjunction with the October 6, 2017, notice of proposed rulemaking (NPR), EPA issued a direct final rule (DFR) approving elements of the 2008 Ozone NAAQS infrastructure SIP. See 82 FR 46679. In the DFR, EPA stated that if adverse comments were submitted to EPA by November 6, 2017, the action would be withdrawn and not take effect. EPA received two sets of comments prior to the close of the comment period; one set of comments was adverse, and one was not directly related to the action being taken by EPA. EPA withdrew the DFR on November 28,2017. See 82 FR 56172.

b. 2010 NO2 NAAQS

On October 11, 2017, EPA proposed to approve certain elements of the 2010 NO2 NAAQS infrastructure SIP submission from the State of Missouri. See 82 FR 47170. In conjunction with the October 11, 2017 NPR, EPA issued a DFR approving elements of the 2010 NO2 NAAQS infrastructure SIP. See 82 FR 47154. In the DFR, EPA stated that if adverse comments were submitted to EPA by November 13, 2017, the action would be withdrawn and not take effect. EPA received five sets of comments prior to the close of the comment period; one set of comments was adverse, and four sets of comments were not related to the action being taken by EPA. Based on the adverse comment received, EPA withdrew the DFR on December 8,2017. See 82 FR 57848.

c. 2010 SO2 NAAQS

On October 6, 2017, EPA proposed to approve certain elements of the 2010 SO2 NAAQS infrastructure SIP submission from the State of Missouri. See 82 FR 46742. In conjunction with the October 6, 2017 NPR, EPA issued a DFR approving elements of the 2010 SO2 NAAQS infrastructure SIP. See 82 FR 46672. In the DFR, EPA stated that if adverse comments were submitted to EPA by November 6, 2017, the action would be withdrawn and not take effect. EPA received three sets of comments prior to the close of the comment period; one set of comments was adverse, and two sets of comments were not directly related to the action being taken by EPA. EPA withdrew the DFR on November 28,2017. See 82 FR 56172.

d. 2012 PM2.5 NAAQS

On October 11, 2017, EPA proposed to approve certain elements of the 2012 PM2.5 NAAQS infrastructure SIP submission from the State of Missouri and two state statutes into the Missouri SIP. See 82 FR 47169. In conjunction with the October 11, 2017 NPR, EPA issued a DFR approving elements of the 2012 PM2.5 NAAQS infrastructure SIP and the two state statutes into the SIP. See 82 FR 47147. In the DFR, EPA stated that if adverse comments were submitted to EPA by November 13, 2017, the action would be withdrawn and not take effect. EPA received six sets of comments prior to the close of the comment period; three sets of comments were adverse, and three sets of comments were not directly related to the action. EPA withdrew the DFR on December 8, 2017. See 82 FR 57848.

This action is a final rule based on the NPRs previously discussed. Detailed discussion of Missouri's 2008 Ozone, 2010 NO2, 2010 SO2, and 2012 PM2.5 NAAQS infrastructure SIP submissions, and EPA's rationale for approving those SIP submissions, was provided in the DFRs and will not be restated here, except to the extent relevant to our response to the public comments we received.

II. What is being addressed in this document?

EPA is only acting on the specific elements of the respective infrastructure SIP submissions for the 2008 Ozone NAAQS, 2010 NO2 NAAQS, 2010 SO2 NAAQS, and 2012 PM2.5 NAAQS, identified in this action.

EPA will act on CAA section 110(a)(2)(D)(i)(II)—protection of visibility (prong 4) for each of the infrastructure SIP submission in a separate action or actions, therefore that element is not addressed in this action.

Technical Support Documents (TSD) are included as part of each of the dockets, noted above, and discuss the details of the actions being taken, including analysis of how the SIP submissions for each NAAQS meet the applicable CAA section 110 requirements for infrastructure SIPs.

a. 2008 Ozone NAAQS

EPA is approving the infrastructure SIP submission from the State of Missouri received on July 8, 2013, as meeting the submission requirements of 110(a)(1). EPA is approving the following elements of section 110(a)(2): (A), (B), (C), (D)(i)(II)—prevent significant deterioration of air quality (prong 3), (D)(ii), (E) through (H), and (J) through (M). EPA is not acting on the elements of section 110(a)(2)(D)(i)(I)—significant contribution to nonattainment (prong 1), interfering with maintenance of the NAAQs (prong 2) because the state did not address those elements addressed in the infrastructure SIP submission at issue in this rulemaking action.

b. 2010 NO2 NAAQS

EPA is approving the infrastructure SIP submission from the State of Missouri received on April 30, 2013, as meeting the applicable submission requirements of 110(a)(1). EPA is approving the following elements of section 110(a)(2): (A) Through (H) (except (D)(i)(II)—protection of visibility (prong 4)), and (J) through (M).

c. 2010 SO2 NAAQS

EPA is approving elements of the infrastructure SIP submission from the State of Missouri received on July 8, 2013, as meeting the submittal requirement of section 110(a)(1). EPA is approving the following elements of section 110(a)(2): (A), (B), (C), (D)(i)(II) —prong 3, (D)(ii), (E) through (H), and (J) through (M). EPA is not acting on the elements of section 110(a)(2)(D)(i)(I) —prong 1 or prong 2 as those elements were not part of the state SIP submittal.

d. 2012 PM2.5 NAAQS

EPA is approving elements of the infrastructure SIP submission from the State of Missouri received on October 14, 2015, as meeting the submittal requirement of section 110(a0(1). EPA is approving the following elements of section 110(a)(2): (A), (B), (C), (D)(i)(II)—prong 3, (D)(ii), (E) through (H), and (J) through (M). EPA intends to act on section 110(a)(2)(D)(i)(I) —prong 1 and prong 2 in a subsequent rulemaking action.

e. Section 110(a)(2)(E)(ii)/section 128

EPA is also approving the state's request to include Missouri State Statute section 105.483(5) RSMo 2014, and Missouri State Statute section 105.485 RSMo 2014 into the Missouri SIP. These two statutes address aspects of the infrastructure requirements relating to state boards or bodies, or agency heads, involved with permitting or enforcement decisions found in section 128 of the CAA. The state included this SIP submittal in the infrastructure SIP submission for the 2012 PM2.5 NAAQS, but EPA notes that this infrastructure SIP requirement is not NAAQS-specific.

III. Have the requirements for approval of the SIP submission been met?

a. 2008 Ozone NAAQS

The state's submission has met the public notice requirements for the Ozone infrastructure SIP submission in accordance with 40 CFR 51.102. The state held a public comment period from The Missouri Department of Natural Resources held a public hearing and comment period from April 30, 2013 to June 6, 2013. EPA provided comments on May 23, 2013 and were the only commenters. A public hearing was held on May 30, 2013. The submission satisfied the completeness criteria of 40 CFR part 51, appendix V for all elements except 110(a)(2)(D)(i)(I)—prongs 1 and 2. EPA published a notice in the Federal Register, “Findings of Failure to Submit a Section 110 State Implementation Plan for Interstate Transport for the 2008 National Ambient Air Quality Standards for Ozone”.¹ Missouri was included in this finding because it had not made a complete “good neighbor” SIP submittal to meet the section 110(a)(2)(D)(i)(I)—prongs 1 and 2 elements.

¹ See 80 FR 39961 (August 12, 2015).

b. 2010 NO2 NAAQS

The state's submission has met the public notice requirements for SIP submissions in accordance with 40 CFR 51.102. The state held a public hearing on March 28, 2013, and a public comment period from February 25, 2013, to April 4, 2013. EPA provided comments to the state on April 3, 2013, and was the only commenter. The state revised its proposed SIP in response to EPA's comments and the revisions were contained in the SIP submitted to EPA on April 30, 2013. The submission satisfied the completeness criteria of 40 CFR part 51, appendix V.

c. 2010 SO2 NAAQS

The state's submission has met the public notice requirements for SIP submissions in accordance with 40 CFR 51.102. The state held a public comment period from April 30, 2013, to June 6, 2013. EPA provided comments on May 23, 2013, and were the only commenters. A public hearing was held on May 30, 2013. The submission satisfied the completeness criteria of 40 CFR part 51, appendix V for all elements except 110(a)(2)(D)(i)(I)—prongs 1 and 2.

d. 2012 PM2.5 NAAQS and Section 110(a)(2)(E)(ii)/section 128

The state's submission has met the public notice requirements for SIP submissions in accordance with 40 CFR 51.102. The state held a public comment period from July 27, 2015, to September 3, 2015. The state received no comments during the public comment period. A public hearing was held on August 27, 2015. The submission satisfied the completeness criteria of 40 CFR part 51, appendix V.

IV. EPA's Response to Comments

All comments on the proposed actions are available in the dockets noted in this action. We only respond to adverse comments in this action. No changes were made to the proposals in this final action after consideration of the adverse comments received.

a. 2008 Ozone NAAQS

The public comment period on EPA's proposed rule opened October 6, 2017, the date of its publication in the Federal Register, and closed on November 6, 2017. During this period, EPA received two sets of comments: One in support of the rule and one which was adverse. The adverse comment is addressed below.

Comment: The commenter stated that EPA must take action on Missouri's submission regarding interstate transport. The commenter asserted that the Cross State Air Pollution Rule (CSAPR) update does not cover all sources of interstate transport and that in EPA's own words is only a “partial remedy” for transport related to the ozone NAAQS. The commenter thus argued that EPA must address the remainder of Missouri's contribution to ambient ozone levels in neighboring states in this rulemaking and that EPA has a nondiscretionary duty to issue a Federal Implementation Plan (FIP) when a state fails to submit an approvable state SIP submission.

EPA's response: In EPA's rulemaking proposing to approve Missouri's infrastructure SIP for the 2008 ozone NAAQS, the Agency stated that it was not taking any action in this rulemaking with respect to the good neighbor provisions in section 110(a)(2)(D)(i)(I). Missouri did not address the requirements of section 110(a)(2)(D)(i)(I) in the infrastructure SIP submission for the 2008 Ozone NAAQS, and thus there is no such submission upon which EPA either proposed to take action or could take action on under section 110(k) of the CAA in this rulemaking.

EPA acknowledges the commenter's concerns about interstate transport of air pollutants and agrees in general with the commenter that sections 110(a)(1) and (a)(2) of the CAA require states to submit, within three years of promulgation of a new or revised NAAQS, a SIP submission which adequately addresses cross-state air pollution under section 110(a)(2)(D)(i)(I). As noted above in section III. a. of this document, EPA has already issued a “Findings of Failure to Submit a Section 110 State Implementation Plan for Interstate Transport for the 2008 National Ambient Air Quality Standards for Ozone”, in August 2015, which triggered EPA's obligation under section 110(c) to promulgate a Federal Implementation Plan addressing the requirements of section 110(a)(2)(D)(i)(I).² As the commenter notes, EPA has already taken steps to address this obligation when it promulgated the CSAPR update in June 2016.³ EPA will take any further steps that may be necessary to address its obligation under sections 110(a)(2)(D)(i)(I) and 110(c) with respect to the 2008 Ozone NAAQS in a separate action.

² See 80 FR 39961 (August 12, 2015).

³ See 81 FR 41838 (August 12, 2016).

b. 2010 NO2 NAAQS

The public comment period on EPA's proposed rule opened October 11, 2017, the date of its publication in the Federal Register, and closed on November 13, 2017. During this period, EPA received five sets of comments: One set of comments was adverse, and four sets of comments were not directly related to the action being taken by EPA in this rulemaking. The adverse comment is addressed below.

Comment: The commenter stated that EPA failed to review this rule against the president's March 28, 2017 executive order regarding economic growth and energy independence.

EPA's response: Section 110(k)requires EPA to take action on a state's SIP submission, and section 110(k)(3) provides that EPA “shall” approve a state's SIP submission if it meets the applicable statutory requirements. In this case, EPA has determined that Missouri's infrastructure SIP submission for this NAAQS met the applicable requirements contained in section 110(a)(2), as explained in this document. Therefore, EPA lacks discretion to decline to take action on, or to disapprove, the SIP submission or to require changes based on consideration of the Executive Order.

c. 2010 SO2 NAAQS

The public comment period on EPA's proposed rule opened October 6, 2017, the date of its publication in the Federal Register, and closed on November 6, 2017. During this period, EPA received three sets of comments: One set of comments was adverse, and two sets of comments were not directly related to the action being taken by EPA. The adverse comments are addressed below.

Comment 1: The commenter stated that EPA must issue a finding of failure to submit for the interstate transport provisions of the infrastructure SIP submission for the 2010 SO2 NAAQS.

EPA's response: In EPA's rulemaking proposing to approve Missouri's infrastructure SIP for the 2010 1-hour SO2 NAAQS, EPA stated that it was not taking any action with respect to the good neighbor provisions in section 110(a)(2)(D)(i)(I) for this NAAQS. EPA understands the commenter's concern with respect to interstate transport. EPA will evaluate whether it is appropriate to make a finding of failure to submit in a separate action.

d. 2012 PM2.5 NAAQS and Section 110(a)(2)(E)(ii)/section 128

The public comment period on EPA's proposed rule opened October 11, 2017, the date of its publication in the Federal Register, and closed on November 13, 2017. During this period, EPA received six sets of comments: three set of comments were adverse, and three sets of comments were not directly related to the action being taken by EPA. Where sets of comments were similar in content, EPA grouped those comments into a single comment and response where appropriate. The adverse comments are addressed below.

Comment 1: The commenter stated that EPA does not have the discretion to act separately on elements of an infrastructure SIP submission, particularly with respect to section 110(a)(2)(D)(i) (prong 1 and prong 2), in a separate rulemaking. The commenter also asserted that its comment letter constituted the commenter's “notice of intent to sue the agency for failure to perform its nondiscretionary duty under 110(k)(2).”

EPA's Response: EPA acknowledges the commenter's concern for the interstate transport of air pollutants and agrees in general with the commenter that sections 110(a)(1) and (a)(2) of the CAA generally require states to submit, within three years of promulgation of a new or revised NAAQS, a SIP submission which adequately addresses interstate transport of air pollution under section 110(a)(2)(D)(i)(I). However, EPA disagrees with the commenter's argument that EPA cannot approve other elements of an infrastructure SIP submission without also taking action on the elements related to interstate transport.

EPA agrees with the commenter that it has an obligation to take action under section 110(k) on SIP submissions. However, EPA disagrees with the commenter's argument that the Agency cannot elect to act on individual parts or elements of a state's infrastructure SIP submission in separate rulemaking actions, as it deems appropriate. Section 110(k)of the CAA authorizes EPA to approve a SIP submission in full, disapprove it in full, or approve it in part and disapprove it in part, or conditionally approve it in full or in part, depending on the extent to which such plan meets the requirements of the CAA. This authority to approve state SIP submissions in separable parts was included in the 1990 Amendments to the CAA to overrule a decision in the Court of Appeals for the Ninth Circuit holding that EPA could not approve individual measures in a SIP submission without either approving or disapproving the plan as a whole. See S. Rep. No. 101-228, at 22, 1990 U.S.C.C.A.N. 3385, 3408 (discussing the express overruling of Abramowitz v. EPA, 832 F.2d 1071 (9th Cir. 1987)).

EPA interprets its authority under section 110(k) of the CAA as affording the Agency the discretion to approve, disapprove, or conditionally approve, individual elements of Missouri's infrastructure SIP submission for the 2012 PM2.5 NAAQS, separate and apart from any action with respect to the requirements of section 110(a)(2)(D)(i)(I) of the CAA with respect to that NAAQS. EPA views discrete infrastructure SIP requirements, such as the requirements of section 110(a)(2)(D)(i)(I), as severable from other infrastructure SIP elements and interprets section 110(k) as allowing it to act on individual severable elements or requirements in a SIP submission. In short, EPA believes it has the discretion under section 110(k) of the CAA to act upon the various individual elements of the State's infrastructure SIP submission, separately or together, as appropriate. EPA will address the remaining elements of Missouri's 2012 PM2.5 NAAQS, infrastructure SIP submission in a separate rulemaking action or actions.

Finally, a public comment submitted on a proposal does not constitute notice of intent to sue the Administrator for failure to perform a nondiscretionary duty. Clean Air Act section 304(b)(2) requires 60 days' notice of a civil action against the Administrator for an alleged failure to perform a non-discretionary duty to the Administrator. EPA's regulations require that service of notice to the Administrator “shall be accomplished by certified mail addressed to the Administrator, Environmental Protection Agency, Washington, DC 20460.” 40 CFR 54.2(a). The commenter's public comment submitted via regulations.gov does not satisfy the regulatory requirements for notices of intent to file suit against the Administrator for failure to perform a non-discretionary duty.

Comment 2: Two commenters argued that EPA should not approve the state statutes, 105.483(5) and 105.485 RSMo 2014, into the SIP as the commenters do not believe the statutes adequately meet conflict of interest requirements as required by section 110(a)(2)(E) and CAA section 128.

EPA's Response: EPA believes that the commenter misunderstood the purpose of these SIP submissions related to section 128. EPA has already previously approved a SIP submission from Missouri as meeting the requirements of section 128. See 78 FR 37457. The Agency's analysis of that SIP submission appeared in the proposal notice for that rulemaking. See 78 FR 21281 at page 21288. In this rulemaking, Missouri is adding additional provisions to its SIP. The state statutes, 105.483(5) and 105.485 RSMo 2014, approved into the SIP by this action, are meant to strengthen the SIP and are not the only SIP provisions that pertain to section 128. EPA believes that the commenter may have wrongly assumed that these latest additions to the SIP are the only provisions relevant to section 128 in the Missouri SIP.

V. What action is EPA taking?

EPA is approving the specific elements of the respective infrastructure SIP submissions for the 2008 Ozone NAAQS, 2010 NO2 NAAQS, 2010 SO2 NAAQS, and 2012 PM2.5 NAAQS, identified in this action.

EPA will act on CAA section 110(a)(2)(D)(i)(II)—prong 4 for each of the infrastructure SIP submission for these NAAQS in a separate rulemaking action or actions.

a. 2008 Ozone NAAQS

EPA is taking final action to approve elements of the July 8, 2013, infrastructure SIP submission from the State of Missouri, which addresses the requirements of CAA sections 110(a)(1) and (2) as applicable to the 2008 Ozone NAAQS. EPA is approving the SIP submission as meeting the submission requirements of section 110(a)(1) and approving the following elements of section 110(a)(2): (A), (B), (C), (D)(i)(II)—prong 3, (D)(ii), (E) through (H), and (J) through (M).

b. 2010 NO2 NAAQS

EPA is taking final action to approve elements of the April 30, 2013, infrastructure SIP submission from the State of Missouri, which addresses the requirements of CAA sections 110(a)(1) and (2) as applicable to the 2010 NO2 NAAQS. EPA is approving the submission as meeting the submittal requirement of section 110(a)(1) and approving the following elements of section 110(a)(2): (A) through (H) (except (D)(i)(II)—prong 4), and (J) through (M).

c. 2010 SO2 NAAQS

EPA is taking final action to approve elements of the July 8, 2013, infrastructure SIP submission from the State of Missouri, which addresses the requirements of CAA sections 110(a)(1) and (2) as applicable to the 2010 SO2 NAAQS. EPA is approving the submission as meeting the submittal requirement of section 110(a)(1) and approving the following elements of section 110(a)(2): (A), (B), (C), (D)(i)(II)—prong 3, (D)(ii), (E) through (H), and (J) through (M). EPA is not acting on the elements of section 110(a)(2)(D)(i)(I)—prong 1 or prong 2 because those elements were not addressed in the SIP submittal.

d. 2012 PM2.5 NAAQS

EPA is taking final action to approve elements of the October 14, 2015, infrastructure SIP submission from the State of Missouri, which addresses the requirements of CAA sections 110(a)(1) and (2) as applicable to the 2012 Annual PM2.5 NAAQS. EPA is approving the submission as meeting the submittal requirement of section 110(a)(1) and approving the following elements of section 110(a)(2): (A), (B), (C), (D)(i)(II)—prong 3), (D)(ii), (E) through (H), and (J) through (M). EPA intends to act on elements of section 110(a)(2)(D)(i)(I)—prong 1 and prong 2 in a subsequent rulemaking.

e. Section 110(a)(2)(E)(ii)/section 128

EPA is taking final action to the state's request to include Missouri State Statute section 105.483(5) RSMo 2014, and Missouri State Statute section 105.485 RSMo 2014 into the Missouri SIP. These two statutes address aspects of the infrastructure requirements relating to state boards or bodies, or agency heads, involved with permitting or enforcement decisions found in section 128 of the CAA. The state included this SIP revision in the infrastructure SIP submission for the 2012 PM2.5 NAAQS, but EPA notes that this infrastructure SIP requirement is not NAAQS-specific.

VI. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 21, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen dioxide, Reporting and recordkeeping requirements.

Dated: March 7, 2018.
James B. Gulliford,
Regional Administrator, Region 7.

For the reasons stated in the preamble, EPA is amending 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (e) is amended by adding the entries “(63) Sections 110 (a)(1) and 110(a)(2) Infrastructure Requirements for the 2008 Ozone NAAQS”, ”(64) Sections 110 (a)(1) and 110(a)(2) Infrastructure Requirements for the 2010 Nitrogen Dioxide NAAQS”, “(65) Sections 110 (a)(1) and 110(a)(2) Infrastructure Requirements for the 2010 Sulfur Dioxide NAAQS”, “(72) Sections 110 (a)(1) and 110(a)(2) Infrastructure Requirements for the 2012 Annual Fine Particulate Matter (PM2.5) NAAQS”, and “(73) Missouri State Statute section 105.483(5) RSMo 2014, and Missouri State Statute section 105.485 RSMo 2014” in numerical order to read as follows:

§ 52.1320 Identification of plan.

* * * * *

(e)* * *

EPA-Approved Missouri Nonregulatory SIP Provisions
Name of nonregulatory SIP provision | Applicable geographic or nonattainment area | State submittal date | EPA approval date | Explanation
* * * * * * *
(63) Sections 110(a)(1) and 110(a)(2) Infrastructure Requirements for the 2008 Ozone NAAQS | Statewide | 7/8/13 | 3/22/18, [insert Federal Register citation] | This action approves the following CAA elements: 110(a)(1) and 110(a)(2)(A), (B), (C), (D)(i)(II)—prong 3, (D)(ii), (E), (F), (G), (H), (J), (K), (L), and (M). 110(a)(2)(D)(i)(I)—prongs 1 and 2 are addressed by Federal Implementation Plans. 110(a)(2)(I) is not applicable. [EPA-R07-OAR-2015-0356; FRL-9975-71-Region 7].
(64) Sections 110(a)(1) and 110(a)(2) Infrastructure Requirements for the 2010 Nitrogen Dioxide NAAQS | Statewide | 4/30/13 | 3/22/18, [insert Federal Register citation] | This action approves the following CAA elements: 110(a)(1) and 110(a)(2)(A), (B), (C), (D)(i)(I), (D)(i)(II)—prong 3, (D)(ii), (E), (F), (G), (H), (J), (K), (L), and (M). 110(a)(2)(I) is not applicable. [EPA-R07-OAR-2017-0268; FRL-9975-71-Region 7].
(65) Sections 110(a)(1) and 110(a)(2) Infrastructure Requirements for the 2010 Sulfur Dioxide NAAQS | Statewide | 7/8/13 | 3/22/18, [insert Federal Register citation] | This action approves the following CAA elements: 110(a)(1) and 110(a)(2)(A), (B), (C), (D)(i)(II)—prong 3, (D)(ii), (E), (F), (G), (H), (J), (K), (L), and (M). EPA is not acting on 110(a)(2)(D)(i)(I)—prongs 1 and 2. 110(a)(2)(I) is not applicable. EPA intends to act on 110(a)(2)(D)(i)(II)—prong 4 in a separate action. [EPA-R07-OAR-2017-0515; FRL-9975-71-Region 7].
* * * * * * *
(72) Sections 110(a)(1) and 110(a)(2) Infrastructure Requirements for the 2012 Annual Fine Particulate Matter (PM2.5) NAAQS | Statewide | 10/14/15 | 3/22/18, [insert Federal Register citation] | This action approves the following CAA elements: 110(a)(1) and 110(a)(2)(A), (B), (C), (D)(i)(II)—prong 3, D(ii), (E), (F), (G), (H), (J), (K), (L), and (M). 110(a)(2)(I) is not applicable. [EPA-R07-OAR-2017-0513; FRL-9975-71-Region 7].
(73) Missouri State Statute section 105.483(5) RSMo 2014, and Missouri State Statute section 105.485 RSMo 2014 | Statewide | 10/14/15 | 3/22/18, [insert Federal Register citation] | EPA-R07-OAR-2017-0513; FRL-9975-71-Region 7.

[FR Doc. 2018-05630 Filed 3-21-18; 8:45 am]

BILLING CODE 6560-50-P